DEPARTMENT OF THE INTERIOR

Fish and Wildlife Service

[FWS-R5-ES-2012-N195: FXES11130300000-134-FF03E00000]

Endangered and Threatened Wildlife and Plants; Draft Revised Indiana Bat Summer Survey Guidelines

Correction

In notice document 2013-00213, appearing on pages 1879-1880 in the issue of Wednesday, January 9, 2013, make the following correction:

On page 1879, in the third column, the sub-agency “Fish and Wildlife Service” was omitted and is corrected to read as set forth above.

[FR Doc. C1-2013-00213 Filed 1-10-13; 8:45 am]

BILLING CODE 1505-01-D